DEPARTMENT OF DEFENSE

Department of the Navy

[Docket ID: USN-2010-0005]

Notice of Proposed Information Collection; Naval Special Warfare Recruiting Directorate

AGENCY: Department of the Navy, DoD.

ACTION: Notice.

SUMMARY: The Naval Special Warfare (NSW) Recruiting Directorate announces the submission of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 12, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information or to obtain a copy of the proposal and associated collection instruments, write to the Director, Naval Special Warfare Recruiting Directorate, 2446 Trident Way, San Diego, CA 92155, or contact Commander Scott Greenfield, telephone (619) 437-5406.

Title; Associated Form; and OMB Number: Naval Special Warfare Recruiting Directorate Sponsor Application; OMB Control Number 0703-TBD.

Needs and Uses: This collection of information is necessary to: (1) Help determine the eligibility and overall compatibility between individuals interested in potentially pursuing a career as a Navy Sea Air Land (SEAL), or Navy Special Warfare (NSW) Combatant Craft Crewman (SWCC) operator; (2) enable the NSW Recruiting Directorate to provide appropriate career and training preparation information to prospective Navy SEAL recruits; and (3) enable the NSW Recruiting Directorate to better allocate limited resources in establishing relationships with the Naval Special Warfare community and prospective candidates based on the alignment of the prospective candidate profile with individuals who have been historically successful in completing Navy SEAL accession training.

Affected Public: Individuals interested in becoming Navy SEAL or SWCC operators interested in receiving information and who elect to provide their information.

Annual Burden Hours: 2000.

Number of Respondents: up to 2000 per year.

Responses per Respondent: 1.

Average Burden per Response: 1 hour.

Frequency: Information will be gathered on an ongoing basis from interested individuals, each individual will need to provide their data only once. However, they will have the opportunity to update or remove their information at their discretion.

SUPPLEMENTARY INFORMATION:

Summary of Information Collection:

An analysis of the information collected is made to determine potential eligibility to potentially become an NSW recruit (Navy SEAL or SWCC), to determine which information is most appropriate to send to each prospective NSW recruit (e.g. how to improve their swim times, profiles of Navy SEALs similar to theirs, general information about Naval Special Warfare), and the alignment of an individual's profile with historical success at Navy SEAL training.

Dated: February 2, 2010.
Patricia L. Toppings,
OSD Federal Register Liaison Officer, Department of Defense.

[FR Doc. 2010-2914 Filed 2-9-10; 8:45 am]

BILLING CODE 5001-06-P